DEPARTMENT OF HEALTH AND HUMAN SERVICES

Health Resources and Services Administration

Meeting of the National Advisory Committee on Rural Health and Human Services

AGENCY: Health Resources and Services Administration (HRSA), Department of Health and Human Services.

ACTION: Notice of Meeting.

SUMMARY: In accordance with the Federal Advisory Committee Act, notice is hereby given of a National Advisory Committee on Rural Health and Human Services (NACRHHS) meeting. The meeting will be open to the public. Informaton about the NACRHHS meeting can be obtained by accessing the following Web site: http://www.hrsa.gov/advisorycommittees/rural/.

DATES: The meeting will be held on September 11, 2017, 8:45 a.m. to 5:00 p.m. MDT; September 12, 2017, 8:30 a.m. to 5:15 p.m. MDT; and September 13, 2017, 8:30 a.m. to 11:00 a.m. MDT.

ADDRESSES: This meeting will be held at the Spring Hill Suites located at 424 E. Parkcenter Blvd., Boise, Idaho 83706, (208) 342-1044.

FOR FURTHER INFORMATION CONTACT: Steve Hirsch, MSLS, Administrative Coordinator, National Advisory Committee on Rural Health and Human Services, Health Resources and Services Administration, Parklawn Building, 17W29C, 5600 Fishers Lane, Rockville, MD 20857, Telephone (301) 443-0835, Fax (301) 443-2803.

SUPPLEMENTARY INFORMATION: NACRHHS provides counsel and recommendations to the Secretary with respect to the delivery, research, development, and administration of health and human services in rural areas.

The meeting on Monday, September 11, will be called to order at 8:45 a.m. by the Chairperson of the Committee, The Honorable Ronnie Musgrove. The Committee will examine the issue of suicide in rural areas and the issue of Rural Health Clinic Modernization. The day will conclude with a period of public comment at approximately 5:15 p.m.

The Committee will break into Subcommittees and depart for site visits Tuesday morning, September 12, at approximately 8:15 a.m. Subcommittees will visit First Baptist Church, 126 S. Hayes Avenue in Emmett, Idaho and the North Canyon Medical Center, 267 N. Canyon Drive in Gooding, Idaho. The day will conclude at the Spring Hill Suites with a period of public comment at approximately 5:00 p.m.

The Committee will meet to summarize key findings and develop a work plan for the next quarter and the following meeting on Wednesday morning, September 13, at 8:30 a.m. Persons interested in attending any portion of the meeting should contact Alfred Delena at the Federal Office of Rural Health Policy (FORHP) via telephone at (301) 443-3388 or by email at ADelena@hrsa.gov. The Committee meeting agenda will be posted on the Committee's Web site at http://www.hrsa.gov/advisorycommittees/rural/.

Amy McNulty,
Acting Director, Division of the Executive Secretariat.

[FR Doc. 2017-18139 Filed 8-25-17; 8:45 am]

BILLING CODE 4165-15-P